DEPARTMENT OF HOMELAND SECURITY

Coast Guard

33 CFR Part 165

[CGD09-03-287]

RIN 1625-AA11

Regulated Navigation Area; USCG Station Port Huron, Port Huron, MI, Lake Huron

AGENCY: Coast Guard, DHS.

ACTION: Final rule.

SUMMARY: The Coast Guard is establishing a regulated navigation area (RNA) around the entrance to the moorings for Station Port Huron. These regulations are necessary to manage vessel traffic and ensure the operability of Coast Guard vessels departing Station Port Huron. These regulations are intended to restrict vessels from fishing, mooring and anchoring in a portion of Lake Huron in the vicinity of The United States Coast Guard (USCG) Station Port Huron.

DATES: This rule is effective May 28, 2004.

ADDRESSES: Comments and material received from the public, as well as documents indicated in this preamble as being available in the docket, are part of docket CGD09-03-287 and are available for inspection or copying at Commander, Marine Safety Compliance Operations Branch (mco), Ninth Coast Guard District, 1240 E. Ninth Street, Cleveland, Ohio 44199-2060, between 9 a.m. and 2 p.m., Monday through Friday, except Federal holidays.

FOR FURTHER INFORMATION CONTACT: Lieutenant Commander Jim McLaughlin, Chief, Marine Safety Compliance Operations Branch, Ninth Coast Guard District Marine Safety Division, at (216) 902-6045.

SUPPLEMENTARY INFORMATION:

Regulatory Information

On January 15, 2004, we published a notice of proposed rulemaking (NPRM) entitled Regulated Navigation Area; USCG Station Port Huron, Port Huron, Michigan, Lake Huron in the Federal Register (69 FR 2318). We received 9 letters commenting on the proposed rule. No public meeting was requested, and none was held.

Background and Purpose

A large number of recreational fishermen typically fish right off the entrance to the Station Port Huron Moorings. As such, it is typical for fishing line to cross the path of any station vessels exiting the harbor, especially in time-critical emergency situations. On multiple occasions in past years, vessels from Station Port Huron were removed from operations due to fishing line becoming lodged in and ruining the shaft bearing. Replacement of this shaft bearing requires removal of the entire shaft from the vessel.

As a result, Station Port Huron's vessels were unavailable for search and rescue response during the most active portion of the year, the summer boating season. Having vessels out of service on a regular basis has resulted in a life-threatening situation. Station Port Huron has not been able to rely on having all of its underway assets available on a 24-hour basis, severely affecting time critical mission response.

In addition, due to security concerns it is necessary to prohibit vessels from anchoring or mooring within the RNA. On several occasions, vessels have been discovered inside Station Port Huron's boat basin or anchored so close to the Station's property that crewmembers trespassed upon Federal Property upon disembarking the vessel. This routine invasion of the boat basin and Government property is a clear threat to the security and safety of the station and its crew.

Station Port Huron is situated on the southern end of Lake Huron at the mouth of the St. Clair River. As such, it is a heavily traveled area both for commercial and recreational vessels. Station Port Huron's area of responsibility continues south approximately 13 miles down the St. Clair River and approximately 10 miles north to Port Sanilac, Michigan. Due to the wide geographic area coupled with the extent of vessel traffic, it is critical that all Station vessels be operable at all times and that response times not be hindered.

Discussion of Comments and Changes

One commenter indicated that vessels should be allowed to enter Station Port Huron's boat basin. In order to ensure that Coast Guard vessels may exit the basin as quickly as possible with no unnecessary obstructions at all times, no vessels are allowed to enter the basin. In addition, due to the requirement to be able to respond as quickly as possible, vessels in the basin place both themselves and Coast Guard members in danger by being in the basin.

Three commenters indicated the Coast Guard should place a device on the shaft to cut off any fishing line. This comment was explored by members of Station Port Huron and it was determined that the device is available for the larger 41 UTB foot boat, however there is no device available for the smaller 25 foot RBHS and 24 foot UTL-T boats. In addition, while the device works well for synthetic fishing line, the device is not effective on the portion of steel used as leaders at the end of fishing line that the USCG boats have been encountering.

Five commenters stated that the size of the zone was too big. The size of the zone is as small as possible to still be effective in preventing adverse impacts on boat operations. The zone size was selected based on currents, and the possibility of fishing lines drifting in from outside the zone. The current zone size guarantees Station Port Huron boats can depart and enter the basin at any time of day, in any weather condition without concern of entanglement.

No changes are being made to this regulation in response to these comments.

Regulatory Evaluation

This rule is not a “significant regulatory action” under section 3(f) of Executive Order 12866 and does not require an assessment of potential costs and benefits under section 6(a)(3) of the Order. The Office of Management and Budget has not reviewed it under that Order. It is not significant under the regulatory policies and procedures of the Department of Homeland Security.

We expect the economic impact of this rule to be so minimal that a full Regulatory Evaluation under the regulatory policies and procedures of DHS is unnecessary.

This determination is based on the relative small size of the zone and the limited class of vessels restricted from this area, i.e. fishing, mooring or anchoring vessels. In addition, vessels may engage in these activities provided the vessel operator receives prior approval from the Captain of the Port Detroit.

Small Entities

Under the Regulatory Flexibility Act (5 U.S.C. 601-612), we have considered whether this rule has a significant impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this rule so that they can better evaluate its effects and participate in the rulemaking process. If the rule affects your small business, organization, or governmental jurisdiction and you have questions concerning its provisions or options for compliance, please contact Commander (mco), Ninth Coast Guard District (see ADDRESSES.)

Collection of Information

This rule calls for no new collection of information under the Paperwork Reduction Act of 1995 (44 U.S.C. 3501-3520).

Federalism

We have analyzed this rule under Executive Order 13132 and have determined that this rule does not have implications for federalism under that Order.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

The Coast Guard has analyzed this rule under Executive Order 13045, Protection of Children from Environmental Health Risks and Safety Risks. This rule is not an economically significant rule and does not concern an environmental risk to health or risk to safety that may disproportionately affect children.

Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

The Coast Guard has analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that, under figure 2-1, paragraph 32(g) of Commandant Instruction M16475.1C, this rule is categorically excluded from further environmental documentation. A written categorical exclusion determination is available in the docket for inspection or copying where indicated under ADDRESSES.

List of Subjects in 33 CFR Part 165

Harbors, Marine safety, Navigation (water), Reporting and recordkeeping requirements, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1(g), 6.04-1, 6.04-6, and 160.5; Pub. L. 107-295, 116 Stat. 2064; Department of Homeland Security Delegation No. 0170.1

2. Add § 165.920 to read as follows:

§ 165.920 Regulated Navigation Area: USCG Station Port Huron, Port Huron, MI, Lake Huron.

(a) Location. All waters of Lake Huron encompassed by the following: starting at the northwest corner at 43°00.4′ N, 082°25.327′ W; then east to 43°00.4′ N, 082°25.23.8′ W; then south to 43°00.3′ N, 082°25.238′ W; then west to 43°00.3′ N, 082°25.327′ W; then following the shoreline north back to the point of origin (NAD 83).

(b) Special regulations. No vessel may fish, anchor, or moor within the RNA without obtaining the approval of the Captain of the Port (COTP) Detroit. Vessels need not request permission from COTP Detroit if only transiting through the RNA. COTP Detroit can be reached by telephone at (313) 568-9580, or by writing to: MSO Detroit, 110 Mt. Elliot Ave., Detroit MI 48207-4380.

Dated: April 21, 2004.
Ronald F. Silva,
Rear Admiral, U.S. Coast Guard, Commander, Ninth Coast Guard District.

[FR Doc. 04-9623 Filed 4-27-04; 8:45 am]

BILLING CODE 4910-15-P